DEPARTMENT OF COMMERCE

International Trade Administration

[A-533-810]

Stainless Steel Bar From India: Preliminary Results of Antidumping Duty Administrative Review; 2017-2018

AGENCY: Enforcement and Compliance, International Trade Administration, Department of Commerce.

SUMMARY: The Department of Commerce (Commerce) preliminarily determines that the producers/exporters subject to this review made sales of stainless steel bar (SS Bar) from India at less than normal value during the period of review (POR) February 1, 2017, through January 31, 2018. Interested parties are invited to comment on these preliminary results.

DATES: Applicable April 16, 2019.

FOR FURTHER INFORMATION CONTACT: Mark Kennedy or Hermes Pinilla, AD/CVD Operations, Office I, Enforcement and Compliance, International Trade Administration, U.S. Department of Commerce, 1401 Constitution Avenue NW, Washington, DC 20230; telephone (202) 482-7883 or (202) 482-3477, respectively.

SUPPLEMENTARY INFORMATION:

Background

This review covers four producers/exporter of the subject merchandise, Venus Wire Industries Pvt. Ltd., and its affiliates Hindustan Inox, Precision Metals and Sieves Manufacturers (India) Pvt. Ltd. (collectively, the Venus Group),¹ Jindal Stainless Hisar Ltd. (Jindal), Jindal Stainless Limited, and Laxcon Steels Limited.

¹ Commerce has previously determined that Venus Wire Industries Pvt. Ltd., and its affiliates Hindustan Inox, Precision Metals and Sieves Manufacturers (India) Pvt. Ltd. constitute a single entity. See Stainless Steel Bar From India: Preliminary Results of Changed Circumstances Review and Intent To Reinstate Certain Companies in the Antidumping Duty Order, 82 FR 48483 (October 18, 2017) and accompanying Preliminary Decision Memorandum at 3-5, unchanged in Final Results of Changed Circumstances Review and Reinstatement of Certain Companies in the Antidumping Duty Order, 83 FR 17529 (April 20, 2018). We have received no information on the record of this review to dispute that finding.

Scope of the Order

The merchandise subject to the order is SS Bar. Imports of the product are currently classifiable in the Harmonized Tariff Schedule of the United States (HTSUS) under subheadings 7222.11.00, 7222.19.00, 7222.20.00, 7222.30.00. While the HTSUS subheadings are provided for convenience and customs purposes, the written description is dispositive. A full description of the scope of the order is contained in the Preliminary Decision Memorandum.²

² See Memorandum, “Decision Memorandum for the Preliminary Results of Antidumping Duty Administrative Review: Stainless Steel Bar from India: 2017-2018,” dated concurrently with, and hereby adopted by this notice (Preliminary Decision Memorandum).

Preliminary Determination of No Reviewable Entries

Based on our review of the U.S. Customs and Border Protection (CBP) data, we found no evidence of reviewable entries made by Jindal Stainless Limited during the POR.³ However, Jindal Stainless Limited did not file a letter on the record stating whether or not it had shipments during the POR. It is Commerce's long-standing practice to rely on both a company's timely filed no-shipment letter and CBP data corroborating such company's no-shipment claim to determine that the company made no shipments during the POR.⁴ Consistent with this practice, we find that it is not appropriate to rescind the review with respect to Jindal Stainless Limited. Rather, we will complete the review with respect to Jindal Stainless Limited and issue appropriate instructions to CBP based on the final results.⁵

³ See Memorandum to the File, “Antidumping Duty Administrative Review on Stainless Steel Bar from India: Release of Customs and Border Protection Data,” dated May 1, 2018. See also Memorandum, “Re: Selection of respondents for Individual Examination,” dated June 22, 2018.

⁴ See Certain Cut-to-Length Carbon-Quality Steel Plate Products from the Republic of Korea: Final Results of Antidumping Duty Administrative Review; 2012-2013, 79 FR 54264 (September 11, 2014), and accompanying Issues and Decisions Memorandum at Comment 5.

⁵ See, e.g., Wooden Bedroom Furniture from the People's Republic of China: Final Results and Final Rescission, In Part, of Administrative Review and Final Results of New Shipper Review; 2013, 80 FR 34619 (June 17, 2015).

Methodology

Commerce is conducting this review in accordance with section 751(a)(2) of the Tariff Act of 1930, as amended (the Act). Export prices were calculated in accordance with section 772 of the Act. Normal value was calculated in accordance with section 773 of the Act.

For a full description of the methodology underlying our conclusions, see the Preliminary Decision Memorandum. The Preliminary Decision Memorandum is a public document and is made available to the public via Enforcement and Compliance's Antidumping and Countervailing Duty Centralized Electronic Service System (ACCESS). ACCESS is available to registered users at http://access.trade.gov and to all parties in Commerce's Central Records Unit, located at room B8024 of the main Department of Commerce building. In addition, a complete version of the Preliminary Decision Memorandum can be found at http://enforcement.trade.gov/frn/index.html. A list of topics discussed in the Preliminary Decision Memorandum is attached at the Appendix to this notice.

Preliminary Results of Administrative Review

We preliminarily determine that the following weighted-average dumping margins exist for the respondents for the period February 1, 2017, through January 31, 2018:

Producer/exporter | Weighted- average dumping margin (percent)
Venus Group | 77.49
Jindal Stainless (Hisar) Limited | 95.21
Laxcon Steels Limited | 77.49

Disclosure and Public Comment

With respect to the Venus Group, we intend to disclose the calculations performed for these preliminary results to the parties within five days after public announcement of the preliminary results in accordance with 19 CFR 351.224(b). Because we preliminarily determined an antidumping margin for Jindal in these preliminary results, based on the application of adverse facts available, in accordance with section 776 of the Act, there are no calculations to disclose.

Pursuant to 19 CFR 351.309(c), interested parties may submit case briefs not later than 30 days after the date of publication of this notice. Rebuttal briefs, limited to issues raised in the case briefs, may be filed not later than five days after the date for filing case briefs.⁶ Parties who submit case briefs or rebuttal briefs in this proceeding are encouraged to submit with each argument: (1) A statement of the issue, (2) a brief summary of the argument, and (3) a table of authorities.⁷

⁶ See 19 CFR 351.309(d).

⁷ See 19 CFR 351.309(c)(2) and (d)(2).

Pursuant to 19 CFR 351.310(c), interested parties who wish to request a hearing must submit a written request to the Assistant Secretary for Enforcement and Compliance, filed electronically via ACCESS. An electronically filed document must be received successfully in its entirety by Commerce's electronic records system, ACCESS, by 5:00 p.m. Eastern Time within 30 days after the date of publication of this notice.⁸ Requests should contain: (1) The party's name, address and telephone number; (2) the number of participants; and (3) a list of issues to be discussed. Issues raised in the hearing will be limited to those raised in the respective case briefs.

⁸ See 19 CFR 351.310(c).

Commerce intends to issue the final results of this administrative review, including the results of its analysis of the issues raised in any written briefs, not later than 120 days after the date of publication of this notice, pursuant to section 751(a)(3)(A) of the Act, and 19 CFR 351.213(h)(1) and (2).

Assessment Rates

Upon issuance of the final results in this administrative review, Commerce shall determine and CBP shall assess antidumping duties on all appropriate entries covered by this POR. If the preliminary results are unchanged for the final results, we will instruct CBP to apply the ad valorem assessment rates listed above to all entries of subject merchandise during the POR which were exported by the companies named above.

For entries of subject merchandise during the POR produced by the Venus Group for which it did not know its merchandise was destined for the United States, we will instruct CBP to liquidate unreviewed entries at the all-others rate if there is no rate for the intermediate company(ies) involved in the transaction.

We intend to issue liquidation instructions to CBP 15 days after publication of the final results of this review.

Cash Deposit Requirements

The following deposit requirements will be effective upon publication of the notice of final results of this review for all shipments of SS Bar from India entered, or withdrawn from warehouse, for consumption on or after the date of publication as provided by section 751(a)(2) of the Act: (1) The cash deposit rate for companies subject to this review will be the rates established in the final results of the review; (2) for merchandise exported by producers or exporters not covered in this review but covered in a prior segment of the proceeding, the cash deposit rate will continue to be the company-specific rate published for the most recent period; (3) if the exporter is not a firm covered in this review, a prior review, or the original investigation but the producer is, the cash deposit rate will be the rate established for the most recent period for the producer of the merchandise; (4) the cash deposit rate for all other producers or exporters will continue to be 12.45 percent, the all-others rate established in the less-than-fair-value investigation.⁹ These cash deposit requirements, when imposed, shall remain in effect until further notice.

⁹ See Notice of Final Determination of Sales at Less Than Fair Value: Stainless Steel Bar from India, 59 FR 66915, 66921 (December 28, 1994).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Commerce is issuing and publishing these results in accordance with sections 751(a)(1) and 777(i) of the Act and 19 CFR 351.221(b)(4).

Dated: April 9, 2019.
Gary Taverman,
Deputy Assistant Secretary for Antidumping and Countervailing Duty Operations, performing the non-exclusive functions and duties of the Assistant Secretary for Enforcement and Compliance.

Appendix

List of Topics Discussed in the Preliminary Decision Memorandum

I. Summary

II. Background

III. Scope of the Order

IV. Cost of Production Analysis for the Venus Group

V. Application of Facts Otherwise Available and Adverse Inferences

A. Application of AFA to the Venus Group

B. Application of AFA to JSHL

C. Selection of AFA Rate

VI. Rate for Respondent Not Selected for Individual Examination

VII. Discussion of the Methodology

(1) Comparisons to Normal Value

A. Determination of Comparison Method

B. Results of the Differential Pricing Analysis

VIII. Date of Sale

IX. Product Comparisons

X. Export Price and Constructed Export Price

XI. Normal Value

A. Comparison Market Viability

B. Affiliated Party Transactions and Arm's-Length Test

C. Level of Trade

D. Cost of Production Analysis

1. Calculation of Cost of Production

2. Test of Comparison Market Sales Prices

3. Results of the COP Test

E. Calculation of Normal Value Based on Comparison Market Prices

XII. Currency Conversion

XIII. Recommendation

[FR Doc. 2019-07560 Filed 4-15-19; 8:45 am]

BILLING CODE 3510-DS-P